ENVIRONMENTAL PROTECTION AGENCY

[FRL-6875-1]

Notice of Informal Public Meetings Regarding the Recommendations From the Task Force on Agricultural Air Quality on Agricultural Burning and Voluntary Measures

AGENCY: Environmental Protection Agency (EPA).

ACTION: Notice of Informal Public Meetings.

SUMMARY: The purpose of this notice is to announce that EPA will hold informal public meetings to receive comments on the Agricultural Air Quality Task Force (AAQTF) recommendations regarding the development of an air quality policy on agricultural burning, and on a voluntary (incentive based) control measures policy to address reasonably available control measures (RACM) / best available control measures (BACM) requirements for particulate matter (PM) nonattainment areas. The meetings are open to the public and will be transcribed.

Informal public meetings are scheduled for 6:00 p.m. to 9:00 p.m. in Spokane, Washington on September 27, 2000 at the Ramada Inn, Spokane International Airport, 8909 Airport Road; in Oklahoma City, Oklahoma on October 12, 2000 at Langston University, Oklahoma City Center, 4205 North Lincoln Boulevard; and in New Iberia, Louisiana on October 18, 2000 at the Holiday Inn, 2915 Highway 14.

The EPA is seeking public comment at these meetings on both sets of AAQTF recommendations as it begins to develop policies to address the air quality impacts of agricultural burning, and the use of the U.S. Department of Agriculture's incentive based programs/practices in meeting RACM/BACM requirements. The format of the informal public meetings will be as follows: opening remarks by EPA staff regarding the recommendations, the purpose of the informal public meeting, time for the public to make verbal comments, and time for EPA to answer clarifying questions. These informal public meetings will be limited to comments relevant to the agricultural burning recommendations and the voluntary measures recommendations. The EPA will not offer its evaluation nor engage in debate on the issues during these meetings.

Members of the public who are interested in presenting comments relative to the recommendations should, if possible, notify the EPA official named below, 5 working days prior to the meeting. Members of the public may also request to present comment by using a sign-up sheet which will be available at the meetings. Time allotted for comments by members of the public will be determined based upon the number of requests received and will be announced at the beginning of the meetings. The order for public comments will be determined on a first received—first to speak basis.

Requests for the opportunity to present comment can be made by contacting Gary Blais between 8:00 a.m. and 5:30 p.m. (EST) at 919-541-3223 Monday-Friday. Persons planning to attend any of these informal public meetings are urged to contact the above EPA representative 2 to 3 working days prior to the meeting to be advised of any changes that may have occurred.

To obtain copies of the agricultural burning recommendations or the voluntary measures recommendations via the Internet, use the following address: http://www.nhq.nrcs.usda.gov/faca/aaqtf.html.

DATES: Written comments, identified by Docket No. A-2000-22, must be received by EPA no later than 60 days from the date of publication of the notice announcing the availability of the AAQTF recommendations previously published in the Federal Register on September 18, 2000. To obtain this notice via the Internet go directly to the Federal Register listings at http://www.epa.gov/fedrgstr/.

ADDRESSES: Comments may be submitted by mail, electronically, or in person. Please follow the detailed instructions for each method as provided in the SUPPLEMENTARY INFORMATION section of this document.

FOR FURTHER INFORMATION CONTACT: Gary Blais or Robin Dunkins, Integrated Policy and Strategies Group, Office of Air Quality Planning and Standards, Environmental Protection Agency, Research Triangle Park, NC 27711; telephone numbers: 919-541-3223 or 919-541-5335; e-mail addresses: blais.gary@epa.gov or dunkins.robin @epa.gov.

SUPPLEMENTARY INFORMATION:

I. How Can I Get Additional Information or Copies of This Document or Other Related Documents?

1. Electronically. You may obtain electronic copies of this document and other related documents from the EPA Internet home page at http://www.epa.gov/. To access this document, on the home page select “Laws and Regulations” and then look up the entry for this document under the “Federal Register—Environmental Documents.” You can also go directly to the Federal Register listings at http://www.epa.gov/fedrgstr/.

2. In Person. The Agency has established an official record for this action under docket control number A-2000-22. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in EPA's Air and Radiation Docket and Information Center; 401 M Street, SW; Room M-1500 (Mail Code 6102); Washington, DC 20460. The docket is available for public inspection and copying between 8:00 a.m. and 5:30 p.m., Monday through Friday, excluding legal holidays. A reasonable fee may be charged for copying.

II. How and to Whom Do I Submit Comments?

You may submit comments through the mail, in person, or electronically. To ensure proper receipt by EPA, it is imperative that you identify docket control number A-2000-22 in the subject line on the first page of your response.

1. By U.S. Postal Service. Submit comments to: EPA Air and Radiation Docket and Information Center (Mail Code 6102), Attention: Docket No. A-2000-22, U.S. Environmental Protection Agency, 1200 Pennsylvania Ave., NW, Washington, DC 20460, telephone (202) 260-7548.

2. In Person or by Courier. Deliver comments to: EPA Air and Radiation Docket and Information Center (Mail Code 6102), Attention: Docket No. A-2000-22, U.S. Environmental Protection Agency, 401 M Street, SW; Room M-1500, Washington, DC 20460, telephone (202) 260-7548.

3. Electronically. Submit electronic comments by e-mail to: A-and-R-Docket@epamail.epa.gov. Do not submit any information electronically that you consider to be CBI. Electronic comments must be submitted as an ASCII file, avoiding the use of special characters and any form of encryption. Comments and data will also be accepted on standard computer disks in WordPerfect 6.1/8.0 or ASCII file format. All comments in electronic form must be identified by the docket control number A-2000-22. Electronic comments may also be filed online at many Federal Depository Libraries.

III. How Should I Handle CBI Information That I Want To Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

IV. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve this notice.

7. Make sure to submit your comments by the deadline in this document.

8. To ensure proper receipt by EPA, be sure to identify the docket control number assigned to this action in the subject line on the first page of your response. You may also provide the name, date, and Federal Register citation.

Dated: September 14, 2000.
John S. Seitz,
Director, Office of Air Quality Planning and Standards.

[FR Doc. 00-24416 Filed 9-20-00; 8:45 am]

BILLING CODE 6560-50-P